DEPARTMENT OF THE INTERIOR

National Park Service

[NPS-WASO-NRNHL-DTS#-29623; PPWOCRADI0, PCU00RP14.R50000]

National Register of Historic Places; Notification of Pending Nominations and Related Actions

AGENCY: National Park Service, Interior.

ACTION: Notice.

SUMMARY: The National Park Service is soliciting comments on the significance of properties nominated before January 11, 2020, for listing or related actions in the National Register of Historic Places.

DATES: Comments should be submitted by February 13, 2020.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before January 11, 2020. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Maricopa County

Peoria Jail House, 8322 West Washington St., Peoria, SG100004993

IOWA

Muscatine County

Fair Oaks Historic District, (Muscatine, Iowa MPS), Bounded by Park Ave., Washington St., Weed Park, and northern Fair Oaks Addition line, Muscatine, MP100004983

KENTUCKY

Campbell County

Buena Vista Historic District, Roughly bounded by L&N/CSX RR, Lowell St., 8th St., & Putnam St., plus 700 blk., Columbia St. & 1000 blk. York St., Newport, SG100004978

MISSOURI

Jackson County

Adams, Charles Francis Jr., Building, (Railroad Related Historic Commercial and Industrial Resources in Kansas City, MO MPS), 1311-1315 West 13th St., Kansas City, MP100004985, Kansas City National Guard Armory, 3620 Main St., Kansas City, SG100004986

NEW YORK

Monroe County

Park Avenue Historic District, Portions of Alexander, Audubon, Barrington, Berkeley, Berkshire, Beverly, Brighton, Brunswick, Calumet, Cambridge, Colby, Cornell, Dartmouth, Darwin, Donlon, Edgerton, Ericsson, Faraday, Girard, Harlem, Harper, Harvard, Homer, & Meigs Sts., et al., Rochester, SG100004981

Suffolk County

Thatch Meadow Farm, (Stony Brook Harbor Estates MPS), Harbor Rd., west side, opposite Bacon Rd., Head of the Harbor, 93000711

OHIO

Cuyahoga County

Henry W. Longfellow School, 650 East 140th St., Cleveland, SG100004982

TEXAS

Travis County

Shield Ranch, Address Restricted, Bee Cave vicinity, SG100004984

VIRGINIA

Danville Independent City

Doctors Building, 990 Main St. & 108 Holbrook St., Danville, SG100004989

Highland County

McDowell Presbyterian Church, 9090 Highland Tpk., McDowell vicinity, SG100004979

Pulaski County

Draper Historic District, Greenbriar Rd./Old Baltimore Rd. and adjacent, Draper, SG100004991

Spotsylvania County

Sylvania Plant Historic District, 11900, 11800, 11700 blks. of Main St., Fredericksburg vicinity, SG100004980

WISCONSIN

Dodge County

Van Brunt Memorial School, 611 Mill St., Horicon, SG100004987

Racine County

Horlick Malted Milk Company Industrial Complex, 2100-2234 Northwestern Ave., 1450-1500 Summit Ave., Racine, SG100004988

Additional documentation has been received for the following resources:

ARIZONA

Maricopa County

Margarita Place Historic District (Additional Documentation), Bounded by Thomas Rd., Windsor Ave., 15th Ave. & 16th Ave., Phoenix, AD07000279

Navajo County

Winslow Commercial Historic District (Additional Documentation), Roughly bounded by 3rd, Williamson Ave., 1st, and Warren Ave., Winslow, AD89000316

Pima County

El Encanto Estates Residential Historic District (Additional Documentation), Roughly bounded by Country Club Rd., Broadway Blvd., Fifth St., & Jones St., Tucson, AD87002284

Authority: Section 60.13 of 36 CFR part 60.

Dated: January 13, 2020.
Julie H. Ernstein,
Supervisory Archeologist, National Register of Historic Places/National Historic Landmarks Program.

[FR Doc. 2020-01499 Filed 1-28-20; 8:45 am]

BILLING CODE 4312-52-P